FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 2, 2006.

A. Federal Reserve Bank of Minneapolis (Jacqueline G. King, Community Affairs Officer) 90 Hennepin Avenue, Minneapolis, Minnesota 55480-0291:

1. The John S. Braun Revocable Trust; Priciscilla W. Braun Revocable Trust (collectively, Trusts); John Stephen Braun and Priscilla White Braun as trustees of the Trusts, all of Deephaven, Minnesota; Stephen John Braun, Minnetonka, Minnesota; Philip McAllister Braun, Richardson, Texas; and Elizabeth Braun Fransen, Wayzata, Minnesota, as a group acting in concert; and Dean Alvin Holasek, Eden Prairie, Minnesota, as an individual, to acquire voting shares of Community Bank Group, Inc., Eden Prairie, Minnesota, and thereby indirectly acquire Community Bank Minnesota Valley, Wayzata, Minnesota and Community Bank Winsted, Winsted, Minnesota.

Board of Governors of the Federal Reserve System, May 15, 2006.
Robert deV. Frierson,
Deputy Secretary of the Board.

[FR Doc. E6-7576 Filed 5-17-06; 8:45 am]

BILLING CODE 6210-01-S